DEPARTMENT OF HEALTH AND HUMAN SERVICES

Administration for Children and Families

Submission for OMB Review; Comment Request

Title: National Directory of New Hires.

OMB No.: 0970-0166.

Description: Public Law 104-193, the “Personal Responsibility and Work Opportunity Reconciliation Act of 1996,” requires the Office of Child Support Enforcement (OCSE) to operate a National Directory of New Hires (NDNH) to improve the ability of State child support agencies to locate noncustodial parents and collect child support across State lines. The law requires States to periodically transmit new hire data received from employers to the NDNH, and to transmit quarterly wage and unemployment compensation claims data to the NDNH on quarterly basis. States transmit all data to the NDNH electrically.

Respondents: Employers, State child support agencies, State Employment Security agencies.

Annual Burden Estimates
Instrument | Number of respondents | Number of responses per respondent | Average burden hours per response | Total burden hours
New Hire: Employers Reporting Manually | 5,166,000 | 3.484 | .0417 hours (2.5 minutes) | 750,531
New Hire: Employers Reporting Electronically | 1,134,000 | 37.037 | .00028 hours (1 second) | 11,760
New Hire: States | 54 | 83.333 | 266.669 hours | 1,200,001
Quarterly Wage & Unemployment Compensation | 54 | 4 | .033 hours (2 minutes) | 7.13
Multistate Employers' Notification Form | 2052 | 1 | .050 hours (3 minutes) | 102.6
Estimated Total Annual Burden Hours: |  |  |  | 1,962,402

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: November 3, 2000.
Bob Sargis,
Reports Clearance Officer.

[FR Doc. 00-28802 Filed 11-8-00; 8:45 am]

BILLING CODE 4184-01-M